DEPARTMENT OF AGRICULTURE

Animal and Plant Health Inspection Service

[Docket No. 00-090-1]

Availability of Pest Risk Assessment for the Importation of Unshu Oranges From the Republic of Korea Into Citrus Producing States of the Continental United States

AGENCY: Animal and Plant Health Inspection Service, USDA.

ACTION: Notice of availability and request for comments.

SUMMARY: We are advising the public that the Animal and Plant Health Inspection Service has prepared a pest risk assessment relative to a proposed rule currently under consideration that would allow the importation of Unshu oranges from the Republic of Korea into citrus producing States of the continental United States. We are making the pest risk assessment available to the public for review and comment.

DATES: We will consider all comments that we receive on or before January 6, 2003.

ADDRESSES: You may submit comments by postal mail/commercial delivery or by e-mail. If you use postal mail/commercial delivery, please send four copies of your comment (an original and three copies) to: Docket No. 00-090-1, Regulatory Analysis and Development, PPD, APHIS, Station 3C71, 4700 River Road Unit 118, Riverdale, MD 20737-1238. Please state that your comment refers to Docket No. 00-090-1. If you use e-mail, address your comment to regulations@aphis.usda.gov. Your comment must be contained in the body of your message; do not send attached files. Please include your name and address in your message and “Docket No. 00-090-1” on the subject line.

You may read any comments that we receive on the pest risk assessment in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Gary Cave, Center for Plant Health Science and Technology, PPQ, APHIS, 1017 Main Campus Drive, Suite 2500, Raleigh, NC 27606-5202; (919) 513-2127.

SUPPLEMENTARY INFORMATION:

Background

Under the regulations in “Subpart—Citrus Fruit” (7 CFR 319.28, referred to below as the regulations), Unshu oranges from the Republic of Korea may be imported, under certain conditions, into any area in the United States except American Samoa, Arizona, California, Florida, Louisiana, the Northern Mariana Islands, Puerto Rico, Texas, and the U.S. Virgin Islands, which are citrus-producing States.

At the request of the Government of the Republic of Korea, the Animal and Plant Health Inspection Service (APHIS) is considering amending the regulations to allow the importation of Unshu oranges from the Republic of Korea into citrus-producing States in the continental United States. To evaluate the risks associated with the importation of Unshu oranges from the Republic of Korea as specified in the Korean Government's request, APHIS has drafted a pest risk assessment entitled “Expansion of the Importation of Fresh Unshu Orange Fruit (Citrus reticulata Blanco var. unshu Swingle) from the Republic of Korea into Citrus Producing States of the Continental United States' (October 4, 2002). This notice solicits public comments on the pest risk assessment.

You may view the pest risk assessment on the Internet at http://www.aphis.usda.gov/ppq/pra/, or in our reading room (information on the location and hours of the reading room is provided under the heading ADDRESSES at the beginning of this notice). You may also request a copy from the person listed under FOR FURTHER INFORMATION CONTACT.

Authority: 7 U.S.C. 450, 7711-7714, 7718, 7731, 7732, and 7751-7754; 21 U.S.C. 136 and 136a; 7 CFR 2.22, 2.80, and 371.3.

Done in Washington, DC, this 30th day of October 2002.
Bobby R. Acord,
Administrator, Animal and Plant Health Inspection Service.

[FR Doc. 02-28074 Filed 11-4-02; 8:45 am]

BILLING CODE 3410-34-P